DEPARTMENT OF EDUCATION

[Docket No.: ED-2019-ICCD-0005]

Agency Information Collection Activities; Comment Request; Evaluation of Preschool Special Education Practices Efficacy Study

AGENCY: Institute of Education Sciences (IES), Department of Education (ED).

ACTION: Notice.

SUMMARY: In accordance with the Paperwork Reduction Act of 1995, ED is proposing a reinstatement of a previously approved information collection.

DATES: Interested persons are invited to submit comments on or before April 1, 2019.

ADDRESSES: To access and review all the documents related to the information collection listed in this notice, please use http://www.regulations.gov by searching the Docket ID number ED-2019-ICCD-0005. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Yumiko Sekino, 202-374-0936.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Preschool Special Education Practices Efficacy Study.

OMB Control Number: 1850-0916.

Type of Review: A reinstatement of a previously approved information collection.

Respondents/Affected Public: State, Local, and Tribal Governments.

Total Estimated Number of Annual Responses: 1,739.

Total Estimated Number of Annual Burden Hours: 455.

Abstract: This package requests clearance for data collection activities to support an efficacy study of an instructional framework designed to address the needs of all preschool children in inclusive classrooms. The efficacy study is part of the Evaluation of Preschool Special Education Practices (EPSEP), which is assessing the feasibility of a large-scale effectiveness study of an intervention for preschool children in inclusive classrooms. The main objective of the efficacy study is to test whether the Instructionally Enhanced Pyramid Model (IEPM) can be implemented with fidelity in inclusive preschool classrooms. IEPM is comprised of three established individual interventions for children with disabilities integrated together into a single comprehensive intervention for use with all children in inclusive preschool classrooms. The secondary objective is to provide initial evidence about IEPM's impacts on classroom and child outcomes. This efficacy study provides an important test of whether strategies for delivering content in a manner that meets the needs of each child with a disability can be integrated with an existing framework of teaching practices for inclusive preschool classes, thus helping all children participate and make progress in the general preschool curriculum. These strategies, which are called targeted instructional supports, have been tested separately but have not been tested as part of this framework.

The efficacy study will include data collection to conduct both implementation and impact analyses. The implementation analysis will use observation data to describe the fidelity of training and implementation. It also will draw on coaching logs and coach interviews to describe program implementation. In addition, responses to a teacher survey and teacher focus groups will provide information on teachers' backgrounds, professional experiences, and perspectives on IEPM implementation. The impact analysis will use data from observations of classroom inclusion quality and engagement, a child observation, a direct child assessment, and teacher reports on child outcomes. The implementation and impact analyses also will use district administrative records to offer additional contextual and background information on the preschool program, its teachers, and enrolled children. These various data collection activities will be carried out between summer 2019 and summer 2021 during the two years that schools in the intervention group will implement IEPM (2019-2020 and 2020-2021 school years).

Dated: January 23, 2019.
Stephanie Valentine,
Acting Director, Information Collection Clearance Program, Information Management Branch, Office of the Chief Information Officer.

[FR Doc. 2019-00255 Filed 1-28-19; 8:45 am]

BILLING CODE 4000-01-P